DEPARTMENT OF HEALTH AND HUMAN SERVICES

Health Care Financing Administration

[HCFA-3036-N]

Medicare Program; Meeting of the Medical and Surgical Procedures Panel of the Medicare Coverage Advisory Committee—October 17 and 18, 2000

AGENCY: Health Care Financing Administration (HCFA), HHS.

ACTION: Notice of meeting.

SUMMARY: This notice announces a public meeting of the Medical and Surgical Procedures Panel of the Medicare Coverage Advisory Committee (MCAC). The panel provides advice and recommendations to the agency about clinical issues. The panel will hear and discuss presentations from interested persons regarding electrostimulation for the treatment of wounds and sacral nerve stimulation for the treatment of refractory urinary urge incontinence and refractory urgency-frequency syndrome. Notice of this meeting is given under the Federal Advisory Committee Act (5 U.S.C. App. 2, section 10(a)(1) and (a)(2)).

DATES:

The Meeting: The meeting will be held on October 17, 2000 from 8 a.m. until 4 p.m., and on October 18, 2000 from 8 a.m. until 2:30 p.m. E.D.T.

Deadline for Presentations and Comments: September 26, 2000, 5 p.m., E.D.T.

Special Accommodations: Persons attending the meeting who are hearing or visually impaired, and have a condition that requires special assistance or accommodations, are asked to notify the Executive Secretary by September 19, 2000.

ADDRESSES:

The Meeting: The meeting will be held at the Baltimore Convention Center, Room 327, One West Pratt Street, Baltimore, MD 21201.

Presentations and Comments: Submit formal presentations and written comments to Constance A. Conrad, Executive Secretary; Office of Clinical Standards and Quality; Health Care Financing Administration; 7500 Security Boulevard; Mail Stop S3-02-01; Baltimore, MD 21244.

Website: You may access up-to-date information on this meeting at www.hcfa.gov/quality/8b.htm.

Hotline: You may access up-to-date information on this meeting on the HCFA Advisory Committee Information Hotline, 1-877-449-5699 (toll free) or in the Baltimore area (410) 786-9379.

FOR FURTHER INFORMATION CONTACT: Constance A. Conrad, Executive Secretary, 410-786-4631.

SUPPLEMENTARY INFORMATION: On August 13, 1999, we published a notice (64 FR 44231) to describe the MCAC, which provides advice and recommendations to us about clinical issues. This notice announces the following public meeting of the MCAC.

Current Panel Members

Alan M. Garber, M.D.; Michael D.Maves, M.D.; Angus M. McBryde, M.D.; H.Logan Holtgrewe, M.D.; Arnold M. Epstein, M.D., Kenneth P. Brin, M.D.; Les J. Zendle, M.D.; Bruce Sigsbee, M.D.; James P. Rathmell, M.D.; Phyllis E. Greenberger, M.S.W.; Marshall S. Stanton, M.D.

Meeting Topic

The Panel will hear and discuss presentations from interested persons regarding electrostimulation for the treatment of wounds the first day and sacral nerve stimulation for the treatment of refractory urinary urge incontinence and refractory urgency-frequency syndrome in adults the second day.

Procedure and Agenda

This meeting is open to the public. The panel will hear oral presentations from the public for approximately 2.5 hours each day of the meeting. The Panel may limit the number and duration of oral presentations to the time available. If you wish to make formal presentations, you must notify the For Further Information Contact person, and submit the following by the Deadline for Presentations and Comments date listed in the DATES section of this notice: a brief statement of the general nature of the evidence or arguments you wish to present, the names and addresses of proposed participants, and an estimate of the time required to make the presentation. A written copy of your presentation must be provided to each panel member prior to offering your public comments. We will request that you declare at the meeting whether or not you have any financial involvement with manufacturers of any items or services being discussed (or with their competitors).

After the public presentation, we will make a presentation to the Panel. After our presentation, the Panel will deliberate openly on the topic. Interested persons may observe the deliberations, but the Panel will not hear further comments during this time except at the request of the chairperson. Each day, the Panel will allow approximately a 30-minute open public session for any attendee to address issues specific to the topic. At the conclusion of each day, the members will vote and the Panel will make its recommendation.

Authority: 5 U.S.C. App. 2, section 10(a)(1) and (a)(2).

(Catalog of Federal Domestic Assistance Program No. 93.774, Medicare—Supplementary Medical Insurance Program)
Dated: August 29, 2000.
Jeffrey L. Kang,
Director, Office of Clinical Standards and Quality, Health Care Financing Administration.

[FR Doc. 00-23137 Filed 9-7-00; 8:45 am]

BILLING CODE 4120-01-P